DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (Pub. L. 92-463), the Agency for Toxic Substances and Disease Registry (ATSDR) announces the following subcommittee and committee meetings.

Name: Community/Tribal Subcommittee.

Times and Dates: 9 a.m.-5 p.m., May 7, 2002; 8:30 a.m.-5 p.m., May 8, 2002.

Place: Sheraton Colony Square Hotel, 188 14th Street, Atlanta, Georgia, 30361.

Status: Open to the public, limited by the available space. The meeting room accommodates approximately 50 people.

Purpose: This subcommittee brings to the Board advice, citizen input, and recommendations on community and tribal programs, practices, and policies of the Agency.

Matters to be Discussed: Agenda items include an overview of the Office of Regional Operations; discussion on ATSDR's training courses; discussion on ATSTR's Disease Registry activities, highlights from the new Public Health Assessment Guidance Manual; update on the CTS Evaluation; overview of Public Health Assessment; review of Action Items; and a report on nomination of four new Special Consultants.

Name: Board of Scientific Counselors, ATSDR.

Times and Dates: 8:30 a.m.-4:30 p.m., May 9, 2002; 8:30 a.m.-12:10 p.m., May 10, 2002.

Place: Sheraton Colony Square Hotel, 188 14th Street, Atlanta, Georgia, 30361.

Status: Open to the public, limited by the available space. The meeting room accommodates approximately 50 people.

Purpose: The Board of Scientific Counselors, ATSDR, advises the Secretary and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters to be Discussed: Agenda will include a review of Action Items; updates on the Agenda for Public Health Environmental Research; update of the CTS Evaluation; discussion on the formation of the Health Department Subcommittee; discussion on New Directions for Health Education and Promotion; presentation on the performance measures and strategic plan; update on the Bio-Chem Terrorism Developments; update on the Child Health Workgroup; discussion on the World Trade Center Residential Sampling, Herculaneum, Calcasieu Parish, and anthrax activities.

Written comments are welcomed and should be received by the contact person listed below prior to the opening of the meeting.

Agenda items are subject to change as priorities dictate.

CONTACT PERSON FOR MORE INFORMATION: Robert Spengler, Sc.D., Executive Secretary, BSC, ATSDR, M/S E-28, 1600 Clifton Road, NE, Atlanta, Georgia 30333, telephone 404/498-0003.

The Director, Management Analysis and Services Office, has been delegated the authority to sign Federal Register notices pertaining to announcements of meetings and other committee management activities for both CDC and ATSDR.

Dated: April 11, 2002.
Alvin Hall,
Acting Director, Management Analysis and Services Office, Centers for Disease Control and Prevention.

[FR Doc. 02-9269 Filed 4-16-02; 8:45 am]

BILLING CODE 4163-70-P